DEPARTMENT OF TRANSPORTATION

Federal Highway Administration

Environmental Impact Statement: Douglas County, WA

AGENCY: Federal Highway Administration (FHWA), DOT.

ACTION: Notice of intent.

SUMMARY: The FHWA is issuing this notice to advise the public that an environmental impact statement will be prepared for a proposed highway project in City of East Wenatchee & Douglas County, Washington.

FOR FURTHER INFORMATION CONTACT: Megan Hall, Transportation and Environmental Engineer, Federal Highway Administration, 711 South Capital Way, Evergreen Plaza, Suite 501, Olympia, Washington 98501-1284, Telephone: (360) 753-9413.

SUPPLEMENTARY INFORMATION: The FHWA, in cooperation with the Washington State Department of Transportation, city of East Wenatchee, & Douglas County, will prepare an environmental impact statement (EIS) for mobility improvement to State Route 28 in Douglas County, Washington. The main problem area is approximately four miles of existing State Route 28 in East Wenatchee, from the Ninth Street intersection to the junction of SR2/97. The study area for improvements will be east of the Columbia River, between Rock Island Dam and Rocky Beach Dam, approximately 20 miles in length.

Improvements are considered necessary to provide for existing and projected traffic demands. Alternatives under consideration include (1) taking no action; (2) using the alternative travel modes; (3) widening the existing two-lane highway to five lanes; and (4) improving an alternative corridor to provide the needed capacity. Incorporated into and studied with the various build alternatives will be variations of grade and alignment, and locations.

Letters describing the proposed action and soliciting comments will be sent to appropriate Federal, State, and local agencies, affected Indian Tribes, private organizations, and citizens who have previously expressed or are known to have interest in this proposal. A series of public meetings will be held in Douglas County. One of the public meetings will be an official scoping meeting, which is expected to be scheduled in the summer of 2001. In addition, a public hearing will be held. Public notice will be given of the time and place of the meetings and hearing. The draft EIS will be available for public and agency review and comment prior to the public hearing.

To ensure that the full range of issues related to this proposed action are addressed and all significant issues identified, comments and suggestions are invited from all interested parties. Comments or questions concerning this proposed action and the EIS should be directed to the FHWA at the address provided above.

(Catalogue of Federal Domestic Assistance Program Number 20.205, Highway Research Planning and Construction. The regulations implementing Executive Order 12372 regarding intergovernmental consultation on Federal programs and activities apply to this program)
Megan P. Hall,
Transportation and Environmental Engineer, FHWA Washington Division.

[FR Doc. 01-6513 Filed 3-15-01; 8:45 am]

BILLING CODE 4910-22-M